DEPARTMENT OF DEFENSE

Defense Acquisition Regulations System

48 CFR Parts 204 and 225

Defense Federal Acquisition Regulation Supplement; Technical Amendments

AGENCY: Defense Acquisition Regulations System, Department of Defense (DoD).

ACTION: Final rule.

SUMMARY: DoD is making technical amendments to the Defense Federal Acquisition Regulation Supplement (DFARS) to update an office symbol and a cross-reference.

DATES: Effective Date: January 24, 2008.

FOR FURTHER INFORMATION CONTACT: Ms. Michele Peterson, Defense Acquisition Regulations System, OUSD(AT&L)DPAP(DARS), IMD 3D139, 3062 Defense Pentagon, Washington, DC 20301-3062. Telephone 703-602-0311; facsimile 703-602-7887.

SUPPLEMENTARY INFORMATION: This final rule amends DFARS text as follows:

○ Section 204.7005. Updates the office symbol for the Defense Logistics Agency order code monitor.

○ Section 225.103. Updates a cross-reference.

List of Subjects in 48 CFR Parts 204 and 225

Government procurement.

Michele P. Peterson,
Editor, Defense Acquisition Regulations System.

Therefore, 48 CFR Parts 204 and 225 are amended as follows:

1. The authority citation for 48 CFR parts 204 and 225 continues to read as follows:

Authority: 41 U.S.C. 421 and 48 CFR Chapter 1.

PART 204—ADMINISTRATIVE MATTERS

204.7005 [Amended]

2. Section 204.7005 is amended in paragraph (c), in the entry “Defense Logistics Agency”, by removing “(J-3311)” and adding in its place “(J71)”.

PART 225—FOREIGN ACQUISITION

225.103 [Amended]

3. Section 225.103 is amended in paragraph (a)(ii)(B) introductory text, by removing “225.872-4(b)” and adding in its place “PGI 225.872-4”.

[FR Doc. E8-1102 Filed 1-23-08; 8:45 am]

BILLING CODE 5001-08-P